DEPARTMENT OF ENERGY

Federal Energy Regulatory Commission

Combined Notice of Filings #2

Take notice that the Commission received the following electric rate filings:

Docket Numbers: ER10-1585-011; ER10-1594-011; ER10-1617-011; ER10-1619-005; ER10-1620-007; ER10-1625-007; ER10-1628-011; ER10-1632-013; ER12-60-013; ER16-1148-002; ER16-733-002.

Applicants: Alabama Electric Marketing, LLC, California Electric Marketing, LLC, LQA, LLC, New Mexico Electric Marketing, LLC, Tenaska Alabama Partners, L.P., Tenaska Alabama II Partners, L.P., Tenaska Energía de Mexico, S. de R. L. de C.V., Tenaska Power Management, LLC, Tenaska Power Services Co., Tenaska Georgia Partners, L.P., Texas Electric Marketing, LLC.

Description: Supplement to December 22, 2017 Updated Market Power Analysis in the Southeast Region of the Tenaska MBR Sellers.

Filed Date: 1/16/19.

Accession Number: 20190116-5144.

Comments Due: 5 p.m. ET 2/6/19.

Docket Numbers: ER10-2739-018; ER10-1859-007; ER10-1872-007; ER10-1892-007; ER10-2743-013; ER10-2751-013; ER10-2755-016; ER10-2793-007; ER12-995-005; ER16-1652-006.

Applicants: LS Power Marketing, LLC, Bluegrass Generation Company, L.L.C., Cherokee County Cogeneration Partners, LLC, Columbia Energy LLC, DeSoto County Generating Company, LLC, Las Vegas Power Company, LLC, LifeEnergy, LLC, Mobile Energy L L C, Renaissance Power, L.L.C., Santa Rosa Energy Center, LLC.

Description: Supplement to December 29, 2017 Updated Market Power Analysis of the LS Southeast MBR Sellers.

Filed Date: 1/15/19.

Accession Number: 20190115-5309.

Comments Due: 5 p.m. ET 2/5/19.

Docket Numbers: ER13-764-018; ER11-3987-013; ER11-4055-008; ER12-1566-012; ER12-199-015; ER12-2498-018; ER12-2499-018; ER14-1548-011; ER14-1775-006; ER14-1776-009; ER14-1927-006; ER15-2653-001; ER16-1325-001; ER16-1326-001 ER16-1327-001; ER17-2141-001; ER17-2142-001; ER17-2385-001; ER17-382-003; ER17-383-003; ER17-384-003 ER18-1416-002; ER18-855-002.

Applicants: Alpaugh 50, LLC, Alpaugh North, LLC, Broken Bow Wind II, LLC, Campbell County Wind Farm, LLC, CED Ducor Solar 1, LLC, CED Ducor Solar 2, LLC, CED Ducor Solar 3, LLC, CED White River Solar, LLC, CED White River Solar 2, LLC, CED Wistaria Solar, LLC, Copper Mountain Solar 1, LLC, Copper Mountain Solar 2, LLC, Copper Mountain Solar 3, LLC, Copper Mountain Solar 4, LLC, Coram California Development, L.P., Great Valley Solar 1, LLC, Great Valley Solar 2, LLC, Great Valley Solar 3, LLC, Mesquite Solar 1, LLC, Mesquite Solar 2, LLC, Mesquite Solar 3, LLC, Panoche Valley Solar, LLC, SEP II, LLC.

Description: Notice of Change in Status and Category Change of the Consolidated Edison, Inc. subsidiaries.

Filed Date: 1/15/19.

Accession Number: 20190115-5311.

Comments Due: 5 p.m. ET 2/5/19.

Docket Numbers: ER19-204-002.

Applicants: Public Service Electric and Gas Company, PJM Interconnection, L.L.C.

Description: Compliance filing: PSEG submits an errata to its 1/10/2019 compliance filing re: Tax Cut Jobs Act to be effective 1/1/2019.

Filed Date: 1/17/19.

Accession Number: 20190117-5028.

Comments Due: 5 p.m. ET 2/7/19.

Docket Numbers: ER19-826-000.

Applicants: South Carolina Electric & Gas Company.

Description: Notice of Cancellation of Transmission Service Agreement of South Carolina Electric & Gas Company.

Filed Date: 1/15/19.

Accession Number: 20190115-5302.

Comments Due: 5 p.m. ET 2/5/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 17, 2019.
Nathaniel J. Davis, Sr.,
Deputy Secretary.

[FR Doc. 2019-00519 Filed 1-30-19; 8:45 am]

BILLING CODE 6717-01-P